DEPARTMENT OF THE INTERIOR

Bureau of Land Management

[MT-060-01-1020-PG]

Notice of Public Meeting; Central Montana Resource Advisory Council

AGENCY: Bureau of Land Management, Interior.

ACTION: Notice of Public Meeting.

SUMMARY: In accordance with the Federal Land Policy and Management Act and the Federal Advisory Committee Act of 1972, the U.S. Department of the Interior, Bureau of Land Management (BLM) Central Montana Resource Advisory Council (RAC) will meet as indicated below.

DATES: The meeting will be held September 8 & 9, 2004, at the BLM's Lewistown Field Office on Airport Road in Lewistown, Montana. The September 8 meeting will begin at 1 p.m. with a 60-minute public comment period. The meeting is scheduled to adjourn at approximately 6 p.m. The September 9 meeting will begin at 8 a.m. with a 30-minute public comment period. This meeting will adjourn at approximately 3 p.m.

SUPPLEMENTARY INFORMATION: This 15-member council advises the Secretary of the Interior on a variety of management issues associated with public land management in Montana. At this meeting the council will discuss: Field Manager updates; Visual Resource Management Classes; Recreation Statistics for the Upper Missouri National Wild and Scenic River; Upper Missouri River Breaks National Monument Planning; Special Recreation Permits Within the Monument; The Lewis & Clark Bicentennial; The Blackleaf Environmental Impact Statement; and Criteria/Philosophy for Road Management.

All meetings are open to the public. The public may present written comments to the RAC. Each formal RAC meeting will also have time allocated for hearing public comments. Depending on the number of persons wishing to comment and time available, the timer for individual oral comments may be limited.

FOR FURTHER INFORMATION CONTACT: Chuck Otto, Acting Lewistown Field Manager, Lewistown Field Office, Airport Road, Lewistown, MT 59457, 406/538-7461.

Dated: August 10, 2004.
Chuck Otto,
Acting Lewistown Field Manager.

[FR Doc. 04-18628 Filed 8-13-04; 8:45 am]

BILLING CODE 4310-$$-P